DEPARTMENT OF THE INTERIOR

National Park Service

Notice of Inventory Completion for Native American Human Remains and Associated Funerary Objects in the Possession of the Peabody Museum of Archaeology and Ethnology, Harvard University, Cambridge, MA

AGENCY: National Park Service, Interior.

ACTION: Notice.

Notice is hereby given in accordance with provisions of the Native American Graves Protection and Repatriation Act (NAGPRA), 43 CFR 10.9, of the completion of an inventory of human remains and associated funerary objects in the possession of the Peabody Museum of Archaeology and Ethnology, Harvard University, Cambridge, MA.

This notice is published as part of the National Park Service's administrative responsibilities under NAGPRA, 43 CFR 10.2(c). The determinations within this notice are the sole responsibility of the museum, institution, or Federal agency that has control of these Native American human remains and associated funerary objects. The National Park Service is not responsible for the determinations within this notice.

A detailed assessment of the human remains was made by the Peabody Museum of Archaeology and Ethnology professional staff in consultation with representatives of the Citizen Potawatomi Nation, Oklahoma; Forest County Potawatomi Community of Wisconsin Potawatomi Indians, Wisconsin; Hannahville Indian Community of Wisconsin Potawatomie Indians of Michigan; Ho-Chunk Nation of Wisconsin; Huron Potawatomi, Inc., Michigan; Iowa Tribe of Kansas and Nebraska; Iowa Tribe of Oklahoma; Kickapoo Traditional Tribe of Texas; Kickapoo Tribe of Indians; Kickapoo Tribe of Oklahoma; Match-e-be-nash-she-wish Band of Pottawatomi Indians of Michigan; Menominee Indian Tribe of Wisconsin; Miami Tribe of Oklahoma; Peoria Tribe of Indians of Oklahoma; Pokagon Band of Potawatomi Indians of Michigan; Prairie Band of Potawatomi Indians, Kansas; Sac & Fox Nation of Missouri in Kansas and Nebraska; Sac & Fox Nation, Oklahoma; Sac & Fox Tribe of the Mississippi in Iowa; and the Winnebago Tribe of Nebraska.

In 1959, human remains representing two individuals were donated to the Peabody Museum of Archaeology and Ethnology by the Warren Anatomical Museum, Harvard University Medical School. No known individuals were identified. No associated funerary objects are present.

Museum records indicate that these human remains were obtained by the Warren Anatomical Museum from a Dr. Morton of Alton, IL. Documentation that accompanies the remains identifies them as “Menomonee,” although the exact location from which the remains were collected is unknown. The specific cultural attribution of the remains indicates that they are likely those of Menominee individuals. The Menominee are represented by the present-day Menominee Indian Tribe of Wisconsin.

Based on the above-mentioned information, officials of the Peabody Museum of Archaeology and Ethnology have determined that, pursuant to 43 CFR 10.2(d)(1), the human remains listed above represent the physical remains of two individuals of Native American ancestry. Officials of the Peabody Museum of Archaeology and Ethnology also have determined that, pursuant to 43 CFR 10.2(e), there is a relationship of shared group identity that can be reasonably traced between these Native American human remains and the Menominee Indian Tribe of Wisconsin.

This notice has been sent to officials of the Citizen Potawatomi Nation, Oklahoma; Forest County Potawatomi Community of Wisconsin Potawatomi Indians, Wisconsin; Hannahville Indian Community of Wisconsin Potawatomie Indians of Michigan; Ho-Chunk Nation of Wisconsin; Huron Potawatomi, Inc., Michigan; Iowa Tribe of Kansas and Nebraska; Iowa Tribe of Oklahoma; Kickapoo Traditional Tribe of Texas; Kickapoo Tribe of Indians; Kickapoo Tribe of Oklahoma; Match-e-be-nash-she-wish Band of Pottawatomi Indians of Michigan; Menominee Indian Tribe of Wisconsin; Miami Tribe of Oklahoma; Peoria Tribe of Indians of Oklahoma; Pokagon Band of Potawatomi Indians of Michigan; Prairie Band of Potawatomi Indians, Kansas; Sac & Fox Nation of Missouri in Kansas and Nebraska; Sac & Fox Nation, Oklahoma; Sac & Fox Tribe of the Mississippi in Iowa; and the Winnebago Tribe of Nebraska. Representatives of any other Indian tribe that believes itself to be culturally affiliated with these human remains should contact Barbara Isaac, Repatriation Coordinator, Peabody Museum of Archaeology and Ethnology, Harvard University, 11 Divinity Avenue, Cambridge, MA 02138, telephone (617) 495-2254, before May 14, 2001. Repatriation of the human remains to the Menominee Indian Tribe of Wisconsin may begin after that date if no additional claimants come forward.

Dated: March 30, 2001.
John Robbins,
Assistant Director, Cultural Resources Stewardship and Partnerships.

[FR Doc. 01-8984 Filed 4-11-01; 8:45 am]

BILLING CODE 4310-70-F